DEPARTMENT OF HEALTH AND HUMAN SERVICES

Centers for Medicare and Medicaid Services

[Document Identifier: CMS-P-0015SPA, CMS-250 through 254, CMS-10008, and CMS-287]

Agency Information Collection Activities: Proposed Collection; Comment Request

AGENCY: Centers for Medicare and Medicaid Services, HHS.

In compliance with the requirement of section 3506(c)(2)(A) of the Paperwork Reduction Act of 1995, the Centers for Medicare and Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

(1) Type of Information Collection Request: New Collection; Title of Information Collection: Medicare Current Beneficiary Survey—Supplement on Patient Activation; Form No.: CMS-P-0015SPA (OMB# 0938-NEW); Use: A primary theme of the NMEP education efforts has been to help Medicare beneficiaries make choices. Simply providing uniform information to an undifferentiated audience is not sufficient. CMS needs to know whether beneficiaries have the communication skills, motivation and basic knowledge of their own health status to be partners in their own health care. The purpose of this survey supplement is to assess the degree to which Medicare beneficiaries participate actively in their own health care decisions; Frequency: Annually; Affected Public: Individuals or Households; Number of Respondents: 16,000; Total Annual Responses: 16,000; Total Annual Hours: 2,666.

(2) Type of Information Request: Revision of a currently approved collection; Title of Information Collection: Medicare Secondary Payer Information Collection and Supporting Regulations in 42 CFR 411.25, 489.2, and 489.20; Form Number: CMS-250 through CMS-254 (OMB# 0938-0214); Use: Medicare Secondary Payer (MSP) is essentially the same concept known in the private insurance industry as coordination of benefits and refers to those situations where Medicare does not have primary responsibility for paying the medical expenses of a Medicare beneficiary. CMS contracts with health insuring organizations, herein referred to as intermediaries and carriers, to process Medicare claims. CMS charges its Medicare intermediaries and carriers with various tasks to detect MSP cases; develops and disseminates tools to enable them to better perform their tasks; and monitors their performance in achievement of their assigned MSP functions. Because intermediaries and carriers are also marketing health insurance products that may have liability when Medicare is secondary, the MSP provisions create the potential for conflict of interest. Recognizing this inherent conflict, CMS has taken steps to ensure that its intermediaries and carriers process claims in accordance with the MSP provisions, regardless of what other insurer is primary.

These information collection requirements describe the MSP requirements and consist of the following:

1. Initial enrollment questionnaire;

2. MSP claims investigation, which consists of first claim development, trauma code development, self-reporting MSP liability development, notice to responsible third party development (411.25 notice), secondary claims development, and “08” development (involving claims where information cannot be obtained from the beneficiary);

3. Provider MSP development, which requires the provider to request information from the beneficiary or representative during admission and other encounters; Frequency: On occasion; Affected Public: Individuals or households, Business or other for-profit, and Not-for-profit institutions; Number of Respondents: 867,867,540; Total Annual Responses: 867,863,540; Total Annual Hours Requested: 2,926,254.

(3) Type of Information Collection Request: Revision of a currently approved collection; Title of Information Collection: Recognition of Pass-Through Payment for Drugs and Biologicals Under the Outpatient Prospective Payment System and Supporting Regulations in 42 CFR, Section 419.43 formerly known as “Recognition of New Technology/Pass-Through Items Under the Prospective Payment System for Hospital Outpatient Services'; Form No.: CMS-10008 (OMB# 0938-0802); Use: This information is necessary to determine items eligible for payment as new technology within the ambulatory payment classification (APC) system as well as items eligible for the transitional pass-through payment provision as required by section 201 of the BBRA. This collection will enable CMS to implement those special payment provisions; Frequency: On Occasion; Affected Public: Business or other for-profit; Number of Respondents: 55; Total Annual Responses: 55; Total Annual Hours: 193.

(4) Type of Information Collection Request: Extension of a currently approved collection; Title of Information Collection: Home Office Cost Statement and Supporting Regulations in 42 CFR 413.17 and 413.20; Form No.: CMS-287 (OMB# 0938-0202); Use: Medicare law permits components of chain organizations to be reimbursed for certain costs incurred by the chain home offices. The Home Office Cost Statement is required by the fiscal intermediary to verify Home Office Costs claimed by the components. Frequency: Annually; Affected Public: Not-for-profit institutions and Business or other for-profit; Number of Respondents: 1,231; Total Annual Responses: 1,231; Total Annual Hours Requested: 573,646.

To obtain copies of the supporting statement and any related forms for the proposed paperwork collections referenced above, access CMS's Web site address at http://www.hcfa.gov/regs/prdact95.htm, or e-mail your request, including your address, phone number, OMB number, and CMS document identifier, to Paperwork@hcfa.gov, or call the Reports Clearance Office on (410) 786-1326. Written comments and recommendations for the proposed information collections must be mailed within 60 days of this notice directly to the CMS Paperwork Clearance Officer designated at the following address: CMS, Office of Information Services, Security and Standards Group, Division of CMS Enterprise Standards, Attention: Dawn Willinghan, Room N2-14-26, 7500 Security Boulevard, Baltimore, Maryland 21244-1850.

Dated: December 20, 2001.
Julie Brown,
Acting, Reports Clearance Officer, Security and Standards Group, Division of CMS Enterprise Standards.

[FR Doc. 02-423 Filed 1-7-02; 8:45 am]

BILLING CODE 4120-03-P